DEPARTMENT OF COMMERCE

International Trade Administration

Oregon Health and Science University, et al.; Notice of Consolidated Decision on Applications for Duty-Free Entry of Scientific Instruments

This is a decision consolidated pursuant to Section 6(c) of the Educational, Scientific, and Cultural Materials Importation Act of 1966 (Pub. L. 89-651, 80 Stat. 897; 15 CFR part 301). Related records can be viewed between 8:30 a.m. and 5 p.m. in Suite 4100W, Franklin Court Building, U.S. Department of Commerce, 1099 14th Street, NW., Washington, DC.

Comments: None received. Decision: Approved. No instrument of equivalent scientific value to the foreign instruments described below, for such purposes as each is intended to be used, is being manufactured in the United States.

Docket Number: 05-018. Applicant: Oregon Health and Science University, Beaverton, OR 97006. Instrument: TriMScope Beam Multiplexor System. Manufacturer: La Vision Bio Tech, GmbH, Germany. Intended Use: See notice at 70 FR 36117, June 22, 2005. Reasons: The foreign instrument provides pulsed, near infrared light >700 nm which is safer for living biological tissue than visible light and is not damaging to living brain tissue. It also allows deeper penetration into the brain (to <100 μm below the surface). Advice received from: The National Institutes of Health.

Docket Number: 05-024. Applicant: Massachusetts Institute of Technology, Plasma Science and Fusion Center, 150 Albany Street, Cambridge, MA 02139. Instrument: Diagnostic Neutral Beam Injector. Manufacturer: Budker Institute of Nuclear Physics. Intended Use: See notice at 70 FR 43125, July 26, 2005. Reasons: The foreign instrument provides: (1) Beam voltage of 55 kV max, 50 kV nominal and operating range of 20-55 kV, (2) extracted ion current of 7 A max, (3) pulse duration of 1.5 s constant and 3 s with on/off modulation, (4) beam diameter at FWHM ≤7 cm at focus (ℓ ≉ 4 m) with ≤0.55° half-angle and (5) full-energy fraction ≥70% of source ion current. Advice received from: Lawrence Livermore National Laboratory.

Docket Number: 05-025. Applicant: Massachusetts Institute of Technology, 150 Albany Street, Cambridge, MA 02139. Instrument: Nuclear Magnetic Resonance Magnet, Model JMTC-600/140. Manufacturer: Jastec, Japan. Intended Use: See notice at 70 FR 43125, July 26, 2005. Reasons: The foreign article is a custom-built accessory for an existing instrument with which it will function as a unique persistent-mode, high-homogeneity and high-resolution 600 MHz NMR spectrometer. The domestic manufacturer deemed capable of producing an article meeting the applicant's specifications replied to the request, but declined to offer a bid. Advice received from: A different foreign manufacturer which also submitted an acceptable bid.

Docket Number: 05-026. Applicant: Cornell University, Ithaca, NY 14853-1301. Instrument: Horizontal Bounce Monochromater. Manufacturer: Oxford-Danfysik, United Kingdom. Intended Use: See notice at 70 FR 43125, July 26, 2005. Reasons: The foreign instrument provides: (1) Two highly-stable, monochromatic x-ray beams at 12.66 KeV and 14.78 KeV at the same fixed horizontal exit angle of 29.6 degrees relative to the primary input x-ray beam by vertical translation of one of two liquid-nitrogen cooled silicon single crystals, contained in a high-vacuum enclosure free from mechanical vibrations and (2) acquisition and analysis of monochromatic x-ray scattering data at energies of 12.66 KeV and 14.78 KeV from frozen, macromolecular single crystals with dimensions typically of 20-100 microns. Advice received from: The National Institutes of Health.

Docket Number: 05-029. Applicant: University of Illinois, at Chicago, Chicago, IL 60607-7509. Instrument: Excimer Laser with Preamplifier. Manufacturer: Laser-Labratorium, Germany. Intended Use: See notice at 70 FR 43123, July 26, 2005. Reasons: The foreign instrument provides: (1) Subpicosecond pulse generation (230 fs), (2) high focusability (1-2 μm) and (3) high peak power with good spatial characteristics and a low pulse repetition rate (0-10 Hz). Advice received from: The National Institute of Standards and Technology and a university research laboratory (Comparable case, 3/16/05).

Docket Number: 05-031. Applicant: University of Illinois, Urbana, IL 61801. Instrument: Qarray2 Microarraying System. Manufacturer: Genetix, Ltd., United Kingdom. Intended Use: See notice at 70 FR 43126, July 26, 2005. Reasons: The foreign instrument provides: (1) A high-precision, low-friction print head having pins held precisely in position by two layers of ball bearings with no lateral pin movement for higher accuracy during the printing process, (2) the small point of contact between the ball bearings and the pin allow free movement in the vertical direction with minimal friction, reducing the problem of pin sticking associated with traditional drilled heads, and (3) linear servo motors, that control positioning of the head, have very smooth motion and high accuracy. Advice received from: The National Institutes of Health.

Docket Number: 05-033. Applicant: Seton Hall University, South Orange, NJ. Instrument: Excimer Laser, Model ThinFilmStar. Manufacturer: TuiLaser AG, Germany. Intended Use: See notice at 70 FR 45689, August 8, 2005. Reasons: The foreign instrument provides both: (1) 250mJ @ 100Hz and (2) a very fast rise time (2.5 ns). Advice received from: The National Institute of Standards and Technology and a university research laboratory (Comparable case, 3/16/05).

The capabilities of each of the foreign instruments described above are pertinent to each applicant's intended purpose and we know of no domestic instrument or apparatus of equivalent scientific value for the intended use of each instrument.

Gerald A. Zerdy,
Program Manager, Statutory Import Programs Staff.

[FR Doc. E5-5015 Filed 9-13-05; 8:45 am]

BILLING CODE 3510-DS-P